DEPARTMENT OF THE INTERIOR

National Park Service

[NPS-WASO-NAGPRA-NPS0030669; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is no cultural affiliation between the human remains and associated funerary objects and any present-day Indian Tribes or Native Hawaiian organizations. Representatives of any Indian Tribes or Native Hawaiian organization not identified in this notice that wish to request transfer of control of these human remains and associated funerary objects should submit a written request to Michigan State University. If no additional requestors come forward, transfer of control of the human remains and associated funerary objects to the Indian Tribes or Native Hawaiian organizations stated in this notice may proceed.

DATES: Representatives of any Indian Tribes or Native Hawaiian organization not identified in this notice that wish to request transfer of control of these human remains and associated funerary objects should submit a written request with information in support of the request to Michigan State University at the address in this notice by October 15, 2020.

ADDRESSES: Judith Stoddart, Associate Provost for University Collections and Arts Initiatives, Michigan State University, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from Huron-Sanilac, Ingham, Lapeer, Livingston, Saginaw, Sanilac, Shiawassee, St. Clair, and Tuscola Counties, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by Michigan State University professional staff in consultation with representatives of the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as Huron Potawatomi, Inc.); Pokagon Band of Potawatomi Indians, Michigan and Indiana; Saginaw Chippewa Indian Tribe of Michigan; Sault Ste. Marie Tribe of Chippewa Indians, Michigan; and two non-federally recognized Indian groups, the Burt Lake Band of Ottawa and Chippewa Indians, and the Grand River Band of Ottawa Indians (hereafter referred to as “The Consulted Tribes and Groups”).

An invitation to consult was extended to the Absentee-Shawnee Tribe of Indians of Oklahoma; Bad River Band of the Lake Superior Tribe of Chippewa Indians of the Bad River Reservation, Wisconsin; Chippewa Cree Indians of the Rocky Boy's Reservation, Montana (previously listed as Chippewa-Cree Indians of the Rocky Boy's Reservation, Montana); Citizen Potawatomi Nation, Oklahoma; Delaware Nation, Oklahoma; Delaware Tribe of Indians; Eastern Shawnee Tribe of Oklahoma; Forest County Potawatomi Community, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Little Shell Tribe of Chippewa Indians of Montana; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Ottawa Tribe of Oklahoma; Peoria Tribe of Indians of Oklahoma; Prairie Band Potawatomi Nation (previously listed as Prairie Band of Potawatomi Nation, Kansas); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Seneca Nation of Indians (previously listed as Seneca Nation of New York); Seneca-Cayuga Nation (previously listed as Seneca-Cayuga Tribe of Oklahoma); Shawnee Tribe; Sokaogon Chippewa Community, Wisconsin; St. Croix Chippewa Indians of Wisconsin; Stockbridge Munsee Community, Wisconsin; Tonawanda Band of Seneca (previously listed as Tonawanda Band of Seneca Indians of New York); Turtle Mountain Band of Chippewa Indians of North Dakota; and the Wyandotte Nation (hereafter referred to as “The Invited Tribes”).

History and Description of the Remains

In 1920, human remains representing, at minimum, seven individuals were removed from the shore of Lake Huron in Huron-Sanilac County, MI, after they were discovered eroding out of the north side of a creek that used to run into the Lake. On August 1, 2006, the human remains (FA 039-06, 661-06) became the subject of a complaint filed with the Howard City Police Department. Until the complainant alerted the police, the human remains had been kept in an attic, where they had been placed by the complainant's father. The father, who had removed the human remains, believed the remains were part of a burial ground associated with an American Indian camp located on the south side of the creek. No known individuals were identified. No associated funerary objects are present.

Between 1957-1961, human remains representing, at minimum, two individuals were removed from the Root site (20IN2), Ingham County, MI. The human remains (567.10(A1.10), 567.11(A1.11), 567.13(A1.13), 567.14(A1.14)) and associated funerary objects were originally disturbed by a group of Girl Scouts while playing on a sandy knoll near the Grand River south of Lansing, MI. Michigan State University Museum was alerted to this discovery, and excavated the human remains under the direction of Professor of Anthropology Dr. Moreau S. Maxwell and Director of Michigan State University Museum Rollin Baker. Additional help came from Birt Darling and other members of the Upper Grand Valley Chapter of the Michigan Archeological Society. Dr. Maxwell is documented as having collected the human remains. No known individuals were identified. The 25 associated funerary objects are four lots of unidentified animal bone (A1.13/567.13, A1.14/567.14, 567.10, A1.27/567), three lots of charcoal (A1.13/567.13, A1.14/567.14, A1.11/567.11), one lot of stone flakes and worked stone (567), two lots of pottery sherds (567, 567.10), one tooth (567), one lot of worked bones (567), one unidentified animal bone (567), one unidentified animal bone (A1.13/567.13), one nut shell (567), and 10 unworked rocks (A1.11/567.11).

In 1976, human remains representing, at minimum, one individual were removed from the Scott Mound site (20LP349), Lapeer County, MI. The human remains (4559) were discovered by Glen J. Martin of Davison, MI, on private land owned by a Mr. Scott of Washburn Road. After Mr. Martin had partially excavated the human remains, he contacted Michigan State University Museum Curator of Anthropology Dr. William Lovis who, at the time, was excavating the Childers site. On December 4, 1976, Mr. Martin donated the human remains to Michigan State University Museum. No known individuals were identified. No associated funerary objects are present.

In 1977, human remains representing, at minimum, 29 individuals were removed from the Childers site (20LP98), Lapeer County, MI. The human remains (4589, 4589.4A, 4589.5, 4589.5B) and associated funerary objects were disturbed during the construction of a house basement. On March 24, 1977, Michigan State University Museum conducted a salvage excavation to recover the human remains and associated funerary objects for the Museum. No known individuals were identified. The 122 associated funerary objects are one abrader (4589.0), one bone (white-tailed) (4589.0), five lots of chipped stone (4589.0), one lot of copper (4589.0), two fire-cracked rocks (4589.0), one lot of fossils (4589.0), one lot of grave fill (4589.0), four lots of sherds (4589.0), one sherd (4589.0), one lot of soil samples (4589.0), one lot of beads (4589.4), one lot of bone (unidentified animal) (4589.4), three bones (unidentified animal) (4589.4), four chipped stones (4589.4), one lot of fire-cracked rock (4589.4), one harpoon (4589.4), six lithics (4589.4), one projectile point (4589.4), one lot of pigment stained sand samples (4589.4), three lots of sherds (4589.4), one pipe bowl fill (4589.41), one awl (turkey) (4589.5), one lot of bones (black bear) (4589.5), one bone (bullfrog) (4589.5), one bone (red shouldered hawk) (4589.5), one bone (unidentified animal) (4589.5), one lot of bones (unidentified animal) (4589.5), one bone (white-tailed deer) (4589.5), one drill tip (4589.5), one lot of fire-cracked rocks (4589.5), seven fire-cracked rocks (4589.5), two lots of flakes and rocks (4589.5), one bone pin or needle (4589.5), one lot of sherds (4589.5), one lot of skull fragments (bear) (4589.5), one lot of slate fragments (4589.5), one lot of ossified tendons (bird) (4589.5), one tool (black bear) (4589.5), one lot of incisor teeth (beaver) (4589.5), one elbow pipe (4589.4.1), one lot of antler drift, one lot of bones (black bear), one lot of bones (deer), one lot of bones (gar), two lots of bones (unidentified animal), one lot of lithics, one lot of slate pieces, one lot of incisor teeth (beaver), one adze, one antler (white-tailed deer), one antler pressure flaker, three axe preforms, one biface tip, one bone (black bear), one bone (canis species), one bone (grebe radius), one bone (grebe ulna), one bone (large mammal), two bones (turkey), one bone (wapiti), one bone (white-tailed deer), one bone (wild turkey), two celts, five discs, one end scraper, one quartzite flake, six flakes, one gorget preform, six lithics, one point, one triangular bone projectile point, three notched projectile points, one vessel, and one whetstone.

On November 22, 1986, human remains representing, at minimum, three individuals were removed from an unidentified location in Lapeer County, MI. The Michigan State Police were alerted, assigned the discovery a case number (38-2792-86), and transferred the human remains to Michigan State University, where they were analyzed by Anthropology Professor Dr. Norman Sauer. No known individuals were identified. No associated funerary objects are present.

On an unknown date, human remains representing, at minimum, two individuals were removed from an unidentified location in Lapeer County, MI. The Michigan State Police transferred the human remains (3513-73) to Michigan State University's Forensic Anthropology Laboratory, where they were analyzed. No known individuals were identified. No associated funerary objects are present.

On June 21, 1962, human remains representing, at minimum, one individual were removed from the Horizon Hills Lot 17 site (no. 2221; 20LV371) in Green Oak Township, Livingston County, MI. The human remains (2221) were brought to the Michigan State Police Crime Lab. On July 13, 1962, the Crime Lab's Detective Sgt. Arthur Kivela transferred the human remains to Michigan State University Museum. No known individual was identified. No associated funerary objects are present.

Between August 14, 1991 and October 10, 1991, human remains representing, at minimum, eight individuals were removed from the Casassa site (20SA1021), Saginaw County, MI. The human remains were excavated by Great Lakes Research of Williamston, Michigan (later reorganized as Great Lakes Research Associates, Inc.) as part of a pipeline project undertaken by Great Lakes Gas Transmission Ltd. Upon discovery of the human remains, the Michigan State Police and the Saginaw County coroner were contacted. After obtaining disinterment permits from the Saginaw County Department of Public Health, the remains were transferred to Michigan State University, where they were analyzed by Anthropology Professor Dr. Norman Sauer. No known individuals were identified. No associated funerary objects are present.

In October/November 1966, human remains representing, at minimum, four individuals were removed from the Mount Lion site (20SA202), Saginaw County, MI. The human remains (3277.1), which had been discovered during field plowing, were collected by Donald W. Foster with the permission of the landowner. On November 30, 1966, the human remains and associated funerary object were brought to Donald R. Hagge, M.D., of Northville, MI, for analysis, and in October of 1968, Mr. Foster donated the human remains and funerary object to Michigan State University Museum. No known individuals were identified. The one associated funerary object is a mountain lion skull (3277).

In the 1980s, human remains representing, at minimum, two individuals were removed from the Frazer-Tyra site (20SA9), also known as the Watson Caches, Armstrong Cache, Frazer I and II Caches, in Saginaw County, MI. The human remains (6888-01, 6888-02, 6888-03, 6888-04, 6888-05) and associated funerary objects were discovered during road construction by the landowner (possibly Mr. Frazer), who alerted Michigan State Police (either Bridgeport or Saginaw Post). The State Police, in turn, contacted Michigan State Archaeologist John Halsey, who confirmed that the human remains were ancient. Although the State Police claimed that they collected all the human remains from the site, Mr. Halsey directed consultant James Payne to excavate the site with a group of volunteers. In 1988, the human remains and funerary objects were transferred to Michigan State University. No known individuals were identified. The 34 associated funerary objects are one axe head and handle (6888-01), one blue tube bead (6888-01), one gun flint spall (6888-01), one lead ball (6888-01), six nails or spikes (6888-01), one brooch fragment (6888-02), one bead (6888-03), one painted sherd (6888-03), one stoneware sherd (6888-04), one lot of bone (unidentified animal) (6888-05), 14 flakes (6888-05), one nail or spike (6888-05), one projectile point ear (6888-05), one historic sherd (6888-05), one lot of sherds (6888-05), and one wood fragment (6888-05).

During the fall and winter of 1994, human remains representing, at minimum, nine individuals were removed from the McLaughlin site (20SL2), Sanilac County, MI. The human remains were disturbed during construction of a house basement. The property owner, Frederick Mclaughlin, the police, and a team from the Office of the State Archaeologist collected the partially preserved human remains. Only one individual was excavated in situ; the other individuals were represented by bone fragments scattered around the worksite. The human remains were brought to Michigan State University for analysis by Anthropology Professor Dr. Norman Sauer. On April 26, 2019, the human remains were found in Michigan State University's Forensic Anthropology Laboratory. In November 2019, the State Archaeologist confirmed Michigan State University's possession of the remains. No known individuals were identified. No associated funerary objects are present.

In 1965, human remains representing, at minimum, three individuals were removed from the Jarrard site (20SE125), Antrim Township, Section 16, Shiawassee County, MI. At an unknown date, the human remains and associated funerary objects were transferred to Michigan State University by Frank Mortimer. The associated funerary objects went to the Michigan State University Museum, and the human remains went to Michigan State University's Forensic Anthropology Laboratory. No known individuals were identified. The 34 associated funerary objects (3911) are one lot of bones (unidentified animal), one lot of flakes, two balls, one biface perform tip, one burin, seven chips, one concretion, one retouched flake, four utilized flakes, four worked flakes, one hammerstone, one point base, one scraper, two end scrapers, one shell, one sherd, one piece of worked granite, one piece of worked quartz, and two worked stones.

Sometime prior to October 4, 2017, human remains representing, at minimum, one individual were removed from Port Huron, St. Clair County, MI, and transferred to Michigan State University. On October 4, 2017, the human remains (F.3.72, C72-4625) were found in Michigan State University's Forensic Anthropology Laboratory. No known individual was identified. No associated funerary objects are present.

On November 13, 1978, human remains representing, at minimum, one individual were removed from Cass City, Tuscola County, MI. The human remains were discovered by property owner James Tuckey while digging and setting a water line near his house. Mr. Tuckey contacted the Cass City Police, which transferred them to Michigan State University's Forensic Anthropology Laboratory, where they were analyzed. No known individual was identified. No associated funerary objects are present.

Determinations Made by Michigan State University

Officials of Michigan State University have determined that:

• Pursuant to 25 U.S.C. 3001(9), the human remains described in this notice are Native American based on archeological context, biological evidence, museum and lab records.

• Pursuant to 25 U.S.C. 3001(9), the human remains described in this notice represent the physical remains of 73 individuals of Native American ancestry.

• Pursuant to 25 U.S.C. 3001(3)(A), the 216 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Saginaw Chippewa Indian Tribe of Michigan.

• According to final judgments of the Indian Claims Commission or the Court of Federal Claims, the land (Livingston County) from which the Native American human remains and associated funerary objects were removed is the aboriginal land of the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as Huron Potawatomi, Inc.); Pokagon Band of Potawatomi Indians, Michigan and Indiana; and the Prairie Band Potawatomi Nation (previously listed as Prairie Band of Potawatomi Nation, Kansas).

• Treaties, Acts of Congress, or Executive Orders indicate that the land from which the Native American human remains and associated funerary objects were removed is the aboriginal land of the Bad River Band of the Lake Superior Tribe of Chippewa Indians of the Bad River Reservation, Wisconsin; Bay Mills Indian Community, Michigan; Chippewa Cree Indians of the Rocky Boy's Reservation, Montana (previously listed as Chippewa-Cree Indians of the Rocky Boy's Reservation, Montana); Citizen Potawatomi Nation, Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as the Huron Potawatomi, Inc.); Ottawa Tribe of Oklahoma; Pokagon Band of Potawatomi Indians, Michigan and Indiana; Prairie Band Potawatomi Nation (previously listed as Prairie Band of Potawatomi Nation, Kansas); Red Cliff Band of Lake Superior Chippewa Indians of Wisconsin; Red Lake Band of Chippewa Indians, Minnesota; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Wyandotte Nation.

• According to other authoritative government sources, the land from which the Native American human remains and associated funerary objects were removed is the aboriginal land of the Miami Tribe of Oklahoma; Sac & Fox Nation of Missouri in Kansas and Nebraska; Sac & Fox Nation, Oklahoma; and the Sac & Fox Tribe of the Mississippi in Iowa.

• Pursuant to 43 CFR 10.11(c)(1), the disposition of the human remains and associated funerary objects may be to the Bad River Band of the Lake Superior Tribe of Chippewa Indians of the Bad River Reservation, Wisconsin; Bay Mills Indian Community, Michigan; Chippewa Cree Indians of the Rocky Boy's Reservation, Montana (previously listed as Chippewa-Cree Indians of the Rocky Boy's Reservation, Montana); Citizen Potawatomi Nation, Oklahoma; Forest County Potawatomi Community, Wisconsin; Grand Traverse Band of Ottawa and Chippewa Indians, Michigan; Hannahville Indian Community, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Ottawa Tribe of Oklahoma; Pokagon Band of Potawatomi Indians, Michigan and Indiana; Prairie Band Potawatomi Nation (previously listed as Prairie Band of Potawatomi Nation, Kansas); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Sokaogon Chippewa Community, Wisconsin; St. Croix Chippewa Indians of Wisconsin; Turtle Mountain Band of Chippewa Indians of North Dakota; and the Wyandotte Nation (hereafter referred to as “The Tribes”).

Additional Requestors and Disposition

Representatives of any Indian Tribes or Native Hawaiian organization not identified in this notice that wish to request transfer of control of these human remains and associated funerary objects should submit a written request with information in support of the request to Judith Stoddart, Associate Provost for University Collections and Arts Initiatives, Michigan State University, 466 W Circle Drive, East Lansing, MI 48824-1044, telephone (517) 432-2524, email stoddart@msu.edu, by October 15, 2020. After that date, if no additional requestors have come forward, transfer of control of the human remains and associated funerary objects to The Tribes may proceed.

Michigan State University is responsible for notifying The Tribes, The Consulted Tribes and Groups, and The Invited Tribes that this notice has been published.

Dated: August 14, 2020.
Melanie O'Brien,
Manager, National NAGPRA Program.

[FR Doc. 2020-20293 Filed 9-14-20; 8:45 am]

BILLING CODE 4312-52-P